DEPARTMENT OF DEFENSE

Department of the Army

Performance Review Board Membership

AGENCY: Department of the Army, DoD.

ACTION: Notice.

SUMMARY: Notice is given of the names of members of a Performance Review Board for the Department of the Army.

Applicable: October 27, 2022.

FOR FURTHER INFORMATION CONTACT: Barbara Smith, Civilian Senior Leader Management Office, 111 Army Pentagon, Washington, DC 20310-0111, email: Barbara.M.Smith.civ@army.mil or Phone: (703) 693-1126.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The Department of the Army Performance Review Board will be composed of a subset of the following individuals:

1. Dr. Elizabeth Altendorf, Director of Military Programs, U.S. Army Corps of Engineers

2. Mr. Steve Austin, Assistant Chief of the Army Reserve, Office of the Chief of the Army Reserve

3. Mr. Mark Averill, Administrative Assistant to the Secretary of the Army, Office of the Administrative Assistant to the Secretary of the Army

4. Mr. Young Bang, Principal Deputy Assistant Secretary of the Army (Acquisitions, Logistics and Technology), Office of the Assistant Secretary of the Army (Acquisitions, Logistics and Technology)

5. Mr. Stephen Barth, Deputy Chief of Staff, G-8, U.S. Army Training and Doctrine Command

6. BG Christine Beeler, Commanding General, U.S. Army Contracting Command, U.S. Army Futures Command

7. Ms. Pamela Blechinger, Director, The Research and Analysis Center, U.S. Army Futures Command

8. Ms. Yvette Bourcicot, Principal Deputy Assistant Secretary of the Army (Manpower and Reserve Affairs), Office of the Assistant Secretary of the Army (Manpower and Reserve Affairs)

9. Dr. David Bridges, Senior Research Scientist (Environmental Science), U.S. Army Corps of Engineers

10. LTG Gary Brito, Deputy Chief of Staff, Office of the Deputy Chief of Staff, G-1, Washington, DC

11. Ms. Kimberly Buehler, Director, Small Business Programs, Office of the Secretary of the Army

12. HON Douglas Bush, Assistant Secretary of the Army (Acquisitions, Logistics and Technology), Office of the Assistant Secretary of the Army (Acquisitions, Logistics and Technology)

13. Mr. Michael Cadieux, Director, CCDC Ground Vehicle Systems Center, U.S. Army Combat Capabilities Development Command, U.S. Army Futures Command

14. LTG Paul Calvert, Deputy Commanding General, U.S. Army Forces Command

15. HON Michael Connor, Assistant Secretary of the Army (Civil Works), Office of the Assistant Secretary of the Army (Civil Works)

16. Ms. Carla Coulson, Deputy Assistant Secretary of the Army (Installations, Housing and Partnerships), Office of the Deputy Chief of Staff, G-9

17. Ms. Megan Dake, Deputy Assistant Secretary of the Army (Procurement), Office of the Assistant Secretary of the Army (Acquisitions, Logistics and Technology)

18. GEN Edward Daly, Commanding General, U.S. Army Materiel Command

19. LTG Jody Daniels, Chief of Army Reserve, Office of the Chief of Army Reserve

20. Mr. John Daniels, Deputy Assistant Secretary of the Army (Plans, Programs and Resources), Office of the Assistant Secretary of the Army (Acquisitions, Logistics and Technology)

21. Mr. Richard De Fatta, Deputy to the Commander, U.S. Army Space and Missile Defense Command/Army Forces Strategic Command

22. Mr. Mario Diaz, Deputy Under Secretary of the Army (Chair), Office of the Deputy Under Secretary of the Army

23. Ms. Karen Durham-Aguilera, Executive Director, U.S. Army National Cemeteries

24. Dr. Elizabeth Fleming, Deputy Director, Engineer Research and Development Center, U.S. Army Corps of Engineers

25. Mr. Michael Formica, Executive Deputy to the Commander, U.S. Army Training and Doctrine Command

26. Dr. Karl Friedl, Senior Research Scientist (Performance Physiology), U.S. Army Forces Command

27. GEN Paul Funk, Commanding General, U.S. Army Training and Doctrine Command

28. LTG Maria Gervais, Deputy Commanding General/Chief of Staff, U.S. Army Training and Doctrine Command

29. Mr. Timothy Goddette, Deputy Assistant Secretary of the Army (Acquisition Policy & Logistics), Office of the Assistant Secretary of the Army (Acquisitions, Logistics and Technology)

30. Ms. Sue Goodyear, Deputy Chief Executive Officer, U.S. Army Futures Command 28.

31. Mr. Larry Gottardi, Director, Civilian Senior Leader Management Office, Washington, DC

32. BG William Graham, Deputy Commanding General for Civil and Emergency Operations, U.S. Army Corps of Engineers

33. Mr. Ross Guckert, Director, IMCOM Support (Training), Office of the Assistant Secretary of the Army (Acquisitions, Logistics and Technology)

34. Dr. Barton Halpern, Director, Army Research Office, U.S. Army Combat Capabilities Development Command, U.S. Army Futures Command

35. LTG Charles Hamilton, Deputy Chief of Staff, G-4, Office of the Deputy Chief of Staff, G-4

36. MG Richard Heitkamp, Deputy Chief of Engineers and Deputy Commanding General, U.S. Army Corps of Engineers

37. Mr. David Horner, Director, Information Technology Laboratory, U.S. Army Corps of Engineers

38. Ms. Laura Jankovich, Director of Management/Vice Director of the Army Staff, Office of the Director of the Army Staff

39. Mr. David Kim, Director of Support, U.S. Army Intelligence and Security Command

40. Mr. Daniel Klippstein, Assistant Deputy Chief of Staff, G-9, Office of the Deputy Chief of Staff, G-9

41. Ms. Krystyna Kolesar, Assistant Deputy Chief of Staff, G-8, Office of the Deputy Chief of Staff, G-8

42. Mr. Michael Lacey, Deputy General Counsel (Operations and Personnel), Office of the General Counsel

43. Mr. Jeffrey Langhout, Director, CCDC Aviation and Missile Center, U.S. Army Combat Capabilities Development Command, U.S. Army Futures Command

44. Mr. Mark Lewis, Deputy to the Assistant Secretary of the Army (Manpower and Reserve Affairs), Office of the Assistant Secretary of the Army (Manpower and Reserve Affairs)

45. Mr. Stephen Loftus, Deputy Assistant Secretary of the Army (Cost and Economics), Office of the Assistant Secretary of the Army (Financial Management and Comptroller)

46. Mr. Michael Mahoney, Deputy Assistant Secretary of the Army (Army Review Boards), Office of the Assistant Secretary of the Army (Manpower and Reserve Affairs)

47. LTG Robert Marion, Principal Military Deputy, Office of the Assistant Secretary of the Army (Acquisitions, Logistics and Technology)

48. Mr. David Markowitz, Chief Data Officer and Analytics Officer, Office of the Chief Information Officer

49. Mr. David May, Senior Cyber Intelligence Advisor, U.S. Army Training and Doctrine Command

50. MG Jeffrey Milhorn, Deputy Commanding General for Military and International Operations, U.S. Army Corps of Engineers

51. Ms. Hong Miller, Director, Civilian Human Resources Agency, Office of the Deputy Chief of Staff, G-1

52. Mr. Myles Miyamasu, Principal Deputy Chief Of Staff, G-3 for Operations, U.S. Army Materiel Command

53. Dr. Eric Moore, Deputy to the Commanding General, U.S. Army Combat Capabilities Development Command, U.S. Army Futures Command

54. Mr. Harry Mornston, Director, Intelligence and Security Directorate, U.S. Army Futures Command

55. Mr. William Nelson, Deputy Assistant Secretary of the Army (Research and Technology)/Chief Scientist, Office of the Assistant Secretary of the Army (Acquisitions, Logistics and Technology)

56. Mr. Donald Nitti, Deputy to the Commander, U.S. Army Aviation and Missile Command, U.S. Army Materiel Command

57. Mr. Levator Norsworthy, Jr., Deputy General Counsel (Acquisition)/Senior Deputy General Counsel, Office of the General Counsel

58. Ms. Karen Pane, Director of Human Resources, U.S. Army Corps of Engineers

59. Mr. Dovarius Peoples, Director for Corporate Information, U.S. Army Corps of Engineers

60. Dr. Anne Petrock, Senior Research Scientist (Warheads Technology), U.S. Army Combat Capabilities Development Command, U.S. Army Futures Command

61. LTG Eric Peterson, Deputy Chief of Staff, G-8, Pentagon, Washington, DC

62. LTG Walter E. Piatt, Director of the Army Staff, Pentagon, Washington, DC

63. Mr. Jamie Pinkham, Principal Deputy Assistant Secretary of the Army (Civil Works), Office of the Assistant Secretary of the Army (Civil Works)

64. Dr. David Pittman, Director, Research and Development/Director, Engineering Research and Development Center, U.S. Army Corps of Engineers

65. Mr. Ronald Pontius, Deputy to the Commanding General, U.S. Army Cyber Command

66. GEN Andrew Poppas, Commanding General, U.S. Army Forces Command

67. LTG Laura Potter, Deputy Chief of Staff, G-2, Office of the Deputy Chief of Staff, G-2

68. LTG James Rainey, Deputy Chief of Staff, G-3/5/7, Office of the Deputy Chief of Staff, G-3/5/7

69. Ms. Diane Randon, Assistant Deputy Chief of Staff, G-2, Office of the Deputy Chief of Staff, G-2

70. Dr. Peter Reynolds, Senior Research Scientist (Physical Sciences), U.S. Army Combat Capabilities Development Command, U.S. Army Futures Command

71. Ms. Anne Richards, The Auditor General, U.S. Army Audit Agency

72. Mr. J. Randall Robinson, Executive Deputy to the Commanding General, U.S. Army Installations Management Command

73. Dr. Dawn Rosarius, Principal Assistant For Acquisition, U.S. Army Medical Research and Development Command, U.S. Army Futures Command

74. Dr. Robert Sadowski, Senior Research Scientist (Robotics), U.S. Army Combat Capabilities Development Command, U.S. Army Futures Command

75. Mr. Meriwether Sale, Director of Operations, U.S. Army Intelligence and Security Command

76. Mr. Bryan Samson, Deputy to the Commanding General, U.S. Army Contracting Command, U.S. Army Materiel Command

77. Mr. Craig Schmauder, Deputy General Counsel (Installations, Environment and Civil Works), Office of the General Counsel

78. Mr. James Scofield, Senior Advisor, National Ground Intelligence Center, U.S. Army Intelligence and Security Command

79. HON Caral Spangler, Assistant Secretary of the Army (Financial Management and Comptroller), Office of the Assistant Secretary of the Army (Financial Management and Comptroller)

80. LTG Scott Spellmon, Chief of Engineers and Commanding General, U.S. Army Corps of Engineers

81. LTG Douglas Stitt, Deputy Chief of Staff, G-1, Office of the Deputy Chief of Staff, G-1

82. Mr. Robin Swan, Director, Office of Business Tranformation

83. Mr. Douglas Tamilio, Director, CCDC Soldier Center, U.S. Army Combat Capabilities Development Command, U.S. Army Futures Command

84. Mr. Roy Wallace, Assistant Deputy Chief of Staff, G-1, Office of the Deputy Chief of Staff, G-1

85. Mr. Joseph Welch, Director, CCDC C5ISR Center, U.S. Army Combat Capabilities Development Command, U.S. Army Futures Command

86. Ms. Marion Whicker, Executive Deputy to the Commanding General, U.S. Army Materiel Command

87. Mr. Max Wyche, Deputy Chief of Staff, G-1, U.S. Army Materiel Command

88. Ms. Kathryn Yurkanin, Principal Deputy Chief of Legislative Liaison, Office of the Chief, Legislative Liaison

James W. Satterwhite, Jr.,
Army Federal Register Liaison Officer.

[FR Doc. 2022-23795 Filed 11-1-22; 8:45 am]

BILLING CODE 3711-02-P